DEPARTMENT OF JUSTICE

Antitrust Division

Notice Pursuant to the National Cooperative Research and Production Act of 1993—Specialty Vehicle Institute of America

Notice is hereby given that, on October 14, 2005, pursuant to Section 6(a) of the National Cooperative Research and Production Act of 1993, 15 U.S.C. 4301 et seq. (“the Act”), Specialty Vehicle Institute of America (“SVIA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Specialty Vehicle Institute of America, Irvine, CA. The nature and scope of SVIA's standards development activities are: For the development of a proposed voluntary standard (ANSI/SVIA-1-2006) addressing the design, configuration and performance aspects of four wheel all-terrain vehicles (“ATVs”), as a revision to the current voluntary standard (ANSI/SVIA-1-2001).

Dorothy B. Fountain,
Deputy Director of Operations, Antitrust Division.

[FR Doc. 05-23257 Filed 11-23-05; 8:45 am]

BILLING CODE 4410-01-M